OFFICE OF PERSONNEL MANAGEMENT

Federal Salary Council; Virtual Public Meeting Notice

AGENCY: Office of Personnel Management.

ACTION: Notice of virtual public meeting.

SUMMARY: The Federal Salary Council will meet via teleconference on Wednesday, October 21, 2020, at the time shown below. There will be no in-person gathering for this meeting.

The Council is an advisory body composed of representatives of Federal employee organizations and experts in the fields of labor relations and pay policy. The Council makes recommendations to the President's Pay Agent (the Secretary of Labor and the Directors of the Office of Management and Budget and the Office of Personnel Management) about the locality pay program for General Schedule employees under § 5304 of title 5, United States Code. The Council's recommendations cover the establishment or modification of locality pay areas, the coverage of salary surveys, the process of comparing Federal and non-Federal rates of pay, and the level of comparability payments that should be paid.

The Council will hear public testimony about the locality pay program, review the results of pay comparisons, and formulate its recommendations to the President's Pay Agent on pay comparison methods, locality pay rates, and locality pay areas and boundaries for 2022.

This meeting is open to the public, with an audio option for listening. Individuals who wish to provide testimony or present material at the meeting should contact the Office of Personnel Management using the email address provided below. In addition, please be aware that the Council asks that oral testimony at the meeting be limited to 5 minutes per speaker.

DATES: The virtual meeting will be held on Wednesday, October 21, 2020, beginning at 1:00 p.m. Eastern Time.

Location: The meeting will convene virtually.

FOR FURTHER INFORMATION CONTACT: Joe Ratcliffe by email at pay-leave-policy@opm.gov.

SUPPLEMENTARY INFORMATION: Public Participation: The October 21, 2020, meeting of the Federal Salary Council is open to the public through registration. Public participation is available for the teleconference by audio access only. All individuals who plan to attend the virtual public meeting to listen must register by sending an email to pay-leave-policy@opm.gov with the subject line “October 21 FSC Public Meeting” no later than Tuesday, October 20, 2020.

The following information must be provided when registering:

• Name/Title,

• Organization,

• Email address, and

• Area represented (if applicable).

Members of the press, in addition to registering for this event, must also RSVP to media@opm.gov by October 20, 2020.

A confirmation email will be sent upon receipt of the registration. Audio teleconference information for participation will be sent to registrants the morning of the virtual meeting.

For The President's Pay Agent.
Alexys Stanley,
Federal Register Liaison.

[FR Doc. 2020-20781 Filed 9-18-20; 8:45 am]

BILLING CODE 6325-39-P